DEPARTMENT OF HEALTH AND HUMAN SERVICES

Centers for Disease Control and Prevention

[30Day-06-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Domestic Violence Prevention Enhancement and Leadership through Alliances (DELTA)—New—National Center for Injury Prevention and Control (NCIPC), Centers for Disease Control and Prevention (CDC).

Domestic violence is a large, potentially preventable source of physical and emotional harm for women, children, and families. One promising approach to domestic violence prevention is the coordinated community response (CCR) model wherein multiple agencies within a community come together to work collectively on domestic violence issues. However, many CCRs formed to date focus on responding to, rather than preventing acts of violence. CDC is launching the Domestic Violence Prevention Enhancement and Leadership through Alliances (DELTA) demonstration program to stimulate the development of prevention-focused programs and diffuse current programs into the existing operations of CCRs, using fourteen state domestic violence coalitions as intermediaries.

This project will be conducted through a policy research contract. First there will be an identification and description of each state's CCR structures and operations, then an evaluation of the DELTA Program's success in developing and disseminating prevention enhancements to CCRs. The contractor will use an environmental scan to identify the full population of CCRs in each state, as well as profile the organizational, political, and economic landscape in which the CCRs operate. This information will assist CDC and the state coalitions in developing prevention enhancements that are responsive to the capacities and circumstances of local CCRs while at the same time providing baseline measures to facilitate and evaluate the DELTA program. The DELTA program evaluation will then use these baseline measures, together with additional data collected each year throughout program implementation to assess how well the program performs in strengthening collaborative activity across domestic violence programs, developing prevention enhancements and incorporating them into current CCR operations, and institutionalizing organizational changes that will sustain primary prevention as part of the everyday workings of state coalitions and CCRs.

The fourteen state coalitions that are DELTA grantees will be interviewed every six months by the contractor, and an annual survey of all local CCRs in the fourteen DELTA states will also be conducted. Once the initial data collection is completed, the contractor will also conduct a one-time survey of state domestic violence coalitions and up to ten other organizations in each of the 36 non-DELTA states. A separate OMB submission will be prepared for this phase. The estimated annualized burden is 400 hours for this data collection.

Information collection instrument | Number of respondents | Number of response/respondent | Average burden/response (in hours)
Mail Survey of CCRs in DELTA States | 448 | 1 | 35/60
Telephone Interviews of DELTA Grantees | 28 | 2 | 2

Dated: December 5, 2003.
Alvin Hall,
Director, Management Analysis and Services Office, Centers for Disease Control and Prevention.

[FR Doc. 03-31056 Filed 12-16-03; 8:45 am]

BILLING CODE 4163-18-P